DEPARTMENT OF HEALTH AND HUMAN SERVICES

National Institutes of Health

Proposed Collection; 60-Day Comment Request; National Institutes of Health (NIH)—Fellow Forms

AGENCY: National Institutes of Health, HHS.

ACTION: Notice.

SUMMARY: In compliance with the requirement of the Paperwork Reduction Act of 1995 to provide an opportunity for public comment on proposed data collection projects, the National Institutes of Health (NIH) will publish periodic summaries of proposed projects to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project contact: Dr. Patricia Wagner, Program Analyst, Office of Intramural Research, Office of the Director, National Institutes of Health; 2 Center Drive: Building 2/Room 2E06; Bethesda, Maryland 20892 or call non-toll-free number 240-476-3619 or email your request, including your address to: wagnerpa@od.nih.gov. Formal requests for additional plans and instruments must be requested in writing.

SUPPLEMENTARY INFORMATION: Section 3506(c)(2)(A) of the Paperwork Reduction Act of 1995 requires: written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Proposed Collection Title: National Institutes of Health (NIH)—Fellow Forms, 0925-XXXX, Expiration Date: XX/XXXX, NEW, Office of Intramural Research (OIR), Office of the Director (OD), National Institutes of Health (NIH).

Need and Use of Information Collection: The NIH Intramural Research Program (NIH IRP) administers a variety of programs, initiatives, and activities to train future biomedical scientists. Fellows participating in the NIH IRP are provided financial assistance through one of the following appointment mechanisms: Intramural Research Training Award, Cancer Research Training Award, and Visiting Fellow. Recently, NIH IRP fellows voted to form a union. To comply with federal regulations governing engagement with a union, the NIH IRP created a series of collection forms.

OMB approval is requested for 3 years. There are no costs to respondents other than their time. The total estimated annualized burden hours are 135.

Estimated Annualized Burden Hours
Collection form | Number of respondents | Number of responses annually per respondent | Average time/ response (hours) | Total annual burden hours
Dues Deduction Request | 600 | 1 | 3/60 | 30
Dues Deduction Cancellation | 600 | 1 | 3/60 | 30
Grievance Report | 300 | 1 | 15/60 | 75
Total | 1,500 | 1,500 | n/a | 135

Dated: July 24, 2024.
Lawrence A. Tabak,
Principal Deputy Director, National Institutes of Health.

[FR Doc. 2024-16739 Filed 7-29-24; 8:45 am]

BILLING CODE 4140-01-P